DEPARTMENT OF AGRICULTURE

Forest Service

Fishlake Resource Advisory Committee

AGENCY: Forest Service, USDA.

ACTION: Notice of meeting.

SUMMARY: The Fishlake Resource Advisory Committee will meet in Richfield, Utah. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend projects under title II of the Act, and receive public comments on the meeting subjects and proceedings.

DATES: The meeting will be held September 25, 2012, 1 p.m.

ADDRESSES: The meeting will be held at the Fishlake National Forest office, 115 E. 900 N., Richfield, Utah. Written comments may be submitted as described under Supplemental Information. All comments, including names and addresses when provided, are placed in the record and are available for public inspection and copying. The public may inspect comments received at 115 E 900 N, Richfield, UT 84701. Please call ahead to (435) 896-1070 to facilitate entry into the building to view comments.

FOR FURTHER INFORMATION CONTACT: John Zapell, RAC Coordinator, Fishlake National Forest, (435) 896-1070; email: jzapell@fs.fed.us. Individuals who use telecommunication devices for the deaf (TDD) may call the Federal Information Relay Service (FIRS) at 1-800-877-8339 between 8 a.m. and 8 p.m., Eastern Standard Time, Monday through Friday.

SUPPLEMENTARY INFORMATION: The following business will be conducted: (1) Review and recommend projects for approval, and (2) receive public comment on the meeting subjects and proceedings. The meeting agenda, proposed projects and other information about the Fishlake RAC may be found at: https://fsplaces.fs.fed.us/fsfiles/unit/wo/secure_rural_schools.nsf/RAC/AA113CC501D12647882575BD006DF2AA?OpenDocument. Anyone who would like to bring related matters to the attention of the committee may file written statements with the committee staff before or after the meeting. The agenda will include time for people to make oral statements of three minutes or less. Individuals wishing to make an oral statement should request in writing by September 14, 2012 to be scheduled on the agenda. Written comments and requests for time for oral comments must be sent to Fishlake RAC Coordinator, 115 E 900 N, Richfield, UT 84701, or by email to jzapell@fs.fed.us, or via facsimile (435) 896-9347. A summary of the meeting will be posted on the web site listed above within 21 days of the meeting.

Meeting Accommodations: If you are a person requiring reasonable accommodation, please make requests in advance for sign language interpreting, assistive listening devices or other reasonable accommodation for access to the facility or procedings by contacting the person listed under For Further Information Contact. All reasonable accommodation requests are managed on a case by case basis.

Dated: August 13, 2012.
Mel Bolling,
Acting Forest Supervisor.

[FR Doc. 2012-20208 Filed 8-16-12; 8:45 am]

BILLING CODE 3410-11-P